NATIONAL SCIENCE FOUNDATION

Advisory Committee for International and Integrative Activities; Notice of Meeting

In accordance with the Federal Advisory Committee Act (Pub. L. 92-463, as amended), the National Science Foundation announces the following meeting:

Name: Committee of Visitors for the Experimental Program to Stimulate Competitive Research (EPSCoR), #1373.

Dates/Time: June 9-10, 2015; 8 a.m.-5 p.m.

Place: National Science Foundation, 4201 Wilson Boulevard, Arlington, VA 22230, Stafford I Room 920.

Type of Meeting: Closed.

Contact Persons: Denise Barnes, Section Head, Uma Venkateswaran, Program Director, Beth Strausser, Associate Program Manager (Detail), and Elizabeth Lawrence, Program Analyst. Experimental Program to Stimulate Competitive Research (EPSCoR); Office of Integrative Activities, National Science Foundation, 4201 Wilson Boulevard, Arlington, VA 22230; Telephone: (703) 292-8683.

Purpose of Meeting: To carry out Committee of Visitors (COV) review, including examination of decisions on proposals, reviewer comments, and other privileged materials.

Agenda: To provide a balanced assessment of NSF EPSCoR's performance in the integrity and efficiency of processes related to proposal review.

Reason for Closing: The proposals being reviewed include information of a proprietary or confidential nature, including technical information; and information on personnel. These matters are exempt under 5 U.S.C. 552b(c), (4) and (6) of the Government in the Sunshine Act.

Dated: March 31, 2015.
Suzanne Plimpton,
Acting, Committee Management Officer.

[FR Doc. 2015-07726 Filed 4-3-15; 8:45 am]

BILLING CODE 7555-01-P